DEPARTMENT OF HEALTH AND HUMAN SERVICES

Centers for Medicare and Medicaid Services

[Document Identifier: CMS-R-273]

Agency Information Collection Activities: Proposed Collection; Comment Request

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection; Title of Information Collection: Site Visit Assessment Tool (previously known as Community Mental Health Center Site Visit Assessment Tool) and Supporting Regulations in 42 CFR 410.2; Form No.: CMS-R-0273 (OMB# 0938-0770); Use: This information collection tool is essential for CMS to ensure that new and existing Community Mental Health Centers (CMHC) are in compliance with Medicare provider requirements, as well as applicable Federal and State requirements. This revision is requested to implement the collection of information required by the Benefit Improvement and Protection Act of 2000 regarding the CMHC's provision of pre-admission screening to State mental health facilities and to expand the collection tool's use into other program areas as a means to screen applicants, enrollees, and existing providers/suppliers to ensure their legitimacy to participate in the Medicare program.; Frequency: Upon initial application or re-enrollment into the Medicare program; Affected Public: Business or other for profit, Not for profit institutions, and State, Local, or Tribal Government; Number of Respondents: 4,550; Total Annual Responses: 4,550; Total Annual Hours: 17,400.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Dawn Willinghan, CMS-R-273, Room N2-14-26, 7500 Security Boulevard, Baltimore, Maryland 21244-1850.

Dated: August 21, 2001.
John P. Burke III,
CMS Reports Clearance Officer, CMS Office of Information Services, Security and Standards Group, Division of CMS Enterprise Standards.

[FR Doc. 01-21675 Filed 8-27-01; 8:45 am]

BILLING CODE 4120-03-P